DEPARTMENT OF LABOR

Office of the Secretary

Submission for OMB Review: Comment Request

January 20, 2006.

The Department of Labor (DOL) has submitted the following public information collection requests (ICRs) to the Office of Management and Budget (OMB) for review and approval in accordance with the Paperwork Reduction Act of 1995 (Pub. L. 104-13, 44 U.S.C. chapter 35). A copy of each ICR, with applicable supporting documentation, may be obtained by contacting Darrin King on 202-693-4129 (this is not a toll-free number) or e-mail: king.darrin@dol.gov.

Comments should be sent to Office of Information and Regulatory Affairs, Attn: OMB Desk Officer for the Mine Safety and Health Administration (MSHA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration.

Type of Review: Extension of currently approved collection.

Title: Records of Mine Closures, Opening and Reopening of Mines.

OMB Number: 1219-0073.

Frequency: On occasion; Semi-annually; and Annually

Type of Response: Recordkeeping and Reporting.

Affected Public: Business or other for-profit.

Estimated Number of Respondents: 1,586.

Estimated Annual Responses: 786.

Estimated Average Response Time: Varies by task and mine size.

Estimated Annual Burden Hours: 15,936.

Total Annualized capital/startup costs: $0.

Total Annual Costs (operating/maintaining systems or purchasing services): $18,292,611.

Description: Title 30 CFR 75.1200, 75.1200-1, 75.1201, 75.1202, 75.1202-1, and 75.1203 require underground coal mine operators to have in a fireproof repository in an area on the surface of the mine chosen by the mine operator to minimize the danger of destruction by fire or other hazards, an accurate and up-to-date map of such mine drawn on scale. These standards specify the information which must be shown, the range of acceptable scale, the surveying technique or equivalent accuracy required of the surveying which must be used to prepare the map, that the maps must be certified as accurate by a registered engineer or surveyor, that the maps must be kept continuously up-to-date by temporary notations and must be revised and supplemented to include the temporary notations at intervals not more than 6 months. In addition, the mine operator must provide the MSHA District Manager a copy of the certified mine map annually during the operating life of the mine.

These maps are essential to the planning and safe operation of the mine. In addition, these maps provide a graphic presentation of the locations of working sections and the locations of fixed surface and underground mine facilities and equipment, escape way routes, coal haulage and man and materials haulage entries and other information essential to mine rescue or mine fire fighting activities in the event of mine fire, explosion or inundations of gas or water. The information is essential to the safe operation of adjacent mines and mines approaching the worked out areas of active or abandoned mines. Section 75.372 requires underground mine operators to submit three copies of an up-to-date mine map to the District Manager at intervals not exceeding 12 months.

Title 30 CFR 75.1204 and 75.1204-1 require that whenever an underground coal mine operator permanently closes or abandons a coal mine, or temporarily closes a coal mine for a period of 90 days, the operator shall file with MSHA a copy of the mine map revised and supplemented to the date of closure. Maps are retained in a repository and are made available to mine operators of adjacent properties. The maps are necessary to provide an accurate record of underground areas that have been mined to help prevent active mine operators from mining into abandoned areas that may contain water or harmful gases.

Title 30 CFR 77.1200, 77.1201 and 77.1202 require surface coal mine operators to maintain an accurate and up-to-date map of the mine and specified the information to be shown on the map, the acceptable range of map scales, that the map be certified a registered engineer or surveyor, that the map be available for inspection by the Secretary or his authorized representative. These maps are essential for the safe operation of the mine and provide essential information to operators of adjacent surface and underground mine operators. Properly prepared effectively utilized surface mine maps can prevent outbursts of water impounded in underground mine workings and/or inundations of underground mines by surface impounded water or water and/or gases impounded in surface auger mining worked out areas.

Title 30 75.373 and 75.1721 require that after a mine is abandoned or declared inactive and before it is reopened, mine operations shall not begin until MSHA has been notified and has completed an inspection.

Standard 75.1721 specifies that the notification be in writing and lists specific information, preliminary arrangements and mine plans which must be submitted to the MSHA District Manager.

Agency: Mine Safety and Health Administration.

Type of Review: Extension of currently approved collection.

Title: Approval, Exhaust Gas Monitoring, and Safety Requirements for the Use of Diesel-Powered Equipment in Underground Coal Mines.

OMB Number: 1219-0119.

Frequency: On occasion.

Type of Response: Recordkeeping.

Affected Public: Business or other for-profit.

Estimated Number of Respondents: 181.

Estimated Annual Responses: 147,657.

Estimated Average Response Time: Varies by task and mine size.

Estimated Annual Burden Hours: 144,527.

Total Annualized capital/startup costs: $0.

Total Annual Costs (operating/maintaining systems or purchasing services): $349,888.

Description: These records are directly associated with the maintenance and use of this diesel equipment, the testing and maintenance of fire suppression systems on the equipment and at fueling stations; the safe storage, transportation and use of diesel fuel; and, exhaust gas sampling provisions to protect miners' health. The records are required to document that essential testing and maintenance of the equipment is done regularly and by qualified persons. Second, the safety requirements for diesel equipment include many of the proven features required in existing standards for electric-powered mobile equipment, such as cabs or canopies, methane monitors, brakes and lights. Third, sampling of diesel exhaust emissions is required to protect miners from overexposure to carbon monoxide and nitrogen dioxide contained in diesel exhaust.

Recordkeeping requirements are found in:

§ 75.1901(a)—Diesel fuel requirements;

§ 75.1904(b)(4)(i)—Underground diesel fuel tanks and safety cans;

§§ 75.1911(i) and (j)—Fire suppression systems for diesel-powered equipment and fuel transportation units;

§§ 75.1912(h) and (i)—Fire suppression systems for permanent underground diesel fuel storage facilities;

§§ 75.1914(f)(1), (f)(2), (g)(5), (h)(1), and (h)(2)—Maintenance of diesel-powered equipment;

§§ 75.1915(a), (b)(5), (c)(1), and (c)(2)—Training and qualification of persons working on diesel-powered equipment.

Ira L. Mills,
Departmental Clearance Officer.

[FR Doc. E6-980 Filed 1-25-06; 8:45 am]

BILLING CODE 4510-43-P